DEPARTMENT OF ENERGY

Federal Energy Regulatory Commission

Combined Notice of Filings #1

January 5, 2010.

Take notice that the Commission received the following electric corporate filings:

Docket Numbers: EC05-110-002.

Applicants: MidAmerican Energy Holdings Company, PacifiCorp.

Description: PacifiCorp requests approval to remove the Market Monitor installed upon MidAmerican Energy Holdings Company's acquisition of PacifiCorp in 2005.

Filed Date: 12/28/2009.

Accession Number: 20100104-0203.

Comment Date: 5 p.m. Eastern Time on Tuesday, January 19, 2010.

Docket Numbers: EC10-14-001.

Applicants: Foote Creek II, LLC, Foote Creek III, LLC, Foote Creek IV, LLC, Ridge Crest Wind Partners, LLC, Oak Creek Wind Power, LLC, Terra-Gen VG Wind, LLC, Terra-Gen 251 Wind, LLC, Chandler Wind Partners, LLC.

Description: On January 4, 2010 Chandler Wind Partners, LLC, et al. filed an Expedited Supplemental Authorization Request. And On January 5, 2010 filed a Request for Supplemental Authorization to January 4, 2010 Supplement.

Filed Date: 01/04/2010; 01/05/2010.

Accession Number: 20100104-5041; 20100105-5034.

Comment Date: 5 p.m. Eastern Time on Tuesday, January 19, 2010.

Take notice that the Commission received the following electric rate filings:

Docket Numbers: ER99-2311-014; ER97-2846-017.

Applicants: Florida Power Corporation, Carolina Power & Light Company.

Description: Amendment to Notice of Change in Status for Florida Power Corporation, et al.

Filed Date: 01/04/2010.

Accession Number: 20100104-5014.

Comment Date: 5 p.m. Eastern Time on Monday, January 25, 2010.

Docket Numbers: ER99-2948-018; ER00-2918-017; ER10-346-003; ER05-261-010; ER01-556-016; ER01-1654-020; ER02-2567-017; ER05-728-010; ER04-485-015; ER07-247-009; ER07-245-009; ER07-244-009.

Applicants: Baltimore Gas and Electric Company, Constellation Power Source Generation, Inc., Calvert Cliffs Nuclear Power Plant LLC, Constellation Energy Commodities Group, Inc., Handsome Lake Energy, LLC, Nine Mile Power Nuclear Station, LLC, Constellation NewEnergy, Inc., Constellation Energy Commodities Group Maine, LLC, R.E. Ginna Nuclear Power Plant, Raven One, LLC, Raven Two, LLC, Raven Three, LLC.

Description: Constellation MBR Entities and Affiliated MBR Entities submits their Request for Determination of Category 1 Seller in the Southwest Power Pool, Southwest and Northwest Regions etc.

Filed Date: 12/31/2009.

Accession Number: 20100104-0152.

Comment Date: 5 p.m. Eastern Time on Thursday, January 21, 2010.

Docket Numbers: ER09-1417-001.

Applicants: Wabash Valley Power Association, Inc.

Description: Wabash Valley Power Association, Inc submits First Revised Rate Schedules to replace certain Rate Schedules and cancelling certain Rate Schedules previously filed on 7/6/09 in compliance with Order No 614.

Filed Date: 12/31/2009.

Accession Number: 20100104-0154.

Comment Date: 5 p.m. Eastern Time on Thursday, January 21, 2010.

Docket Numbers: ER10-507-000.

Applicants: ERA MA, LLC.

Description: ERA MA, LLC submits an application for market-based rate authority and designation of Category 1 Status.

Filed Date: 12/31/2009.

Accession Number: 20100104-0151.

Comment Date: 5 p.m. Eastern Time on Thursday, January 21, 2010.

Docket Numbers: ER10-522-000.

Applicants: Pacific Gas and Electric Company.

Description: Pacific Gas and Electric Company submits an amended Appendix A to the Interconnection Agreement with United States Department of Energy Office of Science etc.

Filed Date: 12/28/2009.

Accession Number: 20091231-0238.

Comment Date: 5 p.m. Eastern Time on Tuesday, January 19, 2010.

Docket Numbers: ER10-536-000; ER10-538-000.

Applicants: Puget Sound Energy, Inc.

Description: Puget Sound Energy, Inc submits a Network Integration Transmission Agreement dated as of 12/29/09 with Bonneville Power Administration designated as Original Service Agreement 484, Original Sheets 1 through 19.

Filed Date: 12/31/2009.

Accession Number: 20100104-0070.

Comment Date: 5 p.m. Eastern Time on Thursday, January 21, 2010.

Docket Numbers: ER10-547-000.

Applicants: Golden Spread Electric Cooperative, Inc.

Description: Golden Spread Electric Cooperative, Inc submits Revised Sheet 104 et al. to First Revised Rate Schedule 23 through 33.

Filed Date: 12/31/2009.

Accession Number: 20100104-0153.

Comment Date: 5 p.m. Eastern Time on Thursday, January 21, 2010.

Docket Numbers: ER10-549-000.

Applicants: PJM Interconnection, LLC.

Description: PJM Interconnection, LLC submits amendments to Schedule 12—Appendix of the PJM Tariff.

Filed Date: 12/31/2009.

Accession Number: 20100104-0149.

Comment Date: 5 p.m. Eastern Time on Monday, February 1, 2010.

Docket Numbers: ER10-550-000.

Applicants: Southwest Power Pool, Inc.

Description: Southwest Power Pool, Inc submits revisions to the Open Access Transmission Tariff to incorporate revisions etc.

Filed Date: 12/31/2009.

Accession Number: 20100104-0150.

Comment Date: 5 p.m. Eastern Time on Thursday, January 21, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-636 Filed 1-14-10; 8:45 am]

BILLING CODE 6717-01-P